DEPARTMENT OF COMMERCE

National Oceanic and Atmospheric Administration

[I.D. 012607C]

Fisheries of the South Atlantic, Gulf of Mexico, and Caribbean; Southeastern Data, Assessment, and Review (SEDAR) Steering Committee; Public Meeting

AGENCY: National Marine Fisheries Service (NMFS), National Oceanic and Atmospheric Administration (NOAA), Commerce.

ACTION: Notice of a public meeting.

SUMMARY: The SEDAR Steering Committee will meet to discuss the SEDAR schedule through 2012; consider modifications to the SEDAR process; review research and monitoring needs; and discuss a process for addressing post-review assessment corrections.

DATES: The SEDAR Steering Committee will meet on Tuesday, February 20, 2007, from 1 p.m. to 6 p.m. and Wednesday, February 21, 2007, from 9 a.m. to 1 p.m.

ADDRESSES: The meeting will be held at the Francis Marion Hotel, 387 King Street, Charleston, SC 29403; telephone: (843) 723-0600; fax: (543) 853-2166.

Council address: South Atlantic Fishery Management Council, 4055 Faber Place, Suite 201, North Charleston, SC 29405.

FOR FURTHER INFORMATION CONTACT: John Carmichael, SEDAR Program Manager, SEDAR/SAFMC, 4055 Faber Place, Suite 201, North Charleston, SC 29405; telephone: (843) 571-4366 or toll free (866) SAFMC-10; fax: (843) 769-4520.

SUPPLEMENTARY INFORMATION: The South Atlantic, Gulf of Mexico, and Caribbean Fishery Management Councils; in conjunction with NOAA Fisheries, the Atlantic States Marine Fisheries Commission, and the Gulf States Marine Fisheries Commission; implemented the Southeast Data, Assessment and Review (SEDAR) process, a multi-step method for determining the status of fish stocks. The SEDAR Steering Committee provides oversight of the SEDAR process, establishes assessment priorities, and provides coordination between assessment efforts and management activities. The SEDAR Steering Committee meets twice annually.

During this meeting the Steering Committee will consider benchmark assessments during 2009 - 2012 and update assessments in 2008 and 2009. The Committee will receive reports from the Councils regarding research and monitoring priorities. The Committee will discuss procedures for addressing assessment corrections that arise after the review. The Committee will develop a list of species to be assessed on a regular basis and a list of species of concern that will be assessed less frequently.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to the South Atlantic Fishery Management Council office see ADDRESSES at least 3 business days prior to the meeting.

Dated: January 30, 2007.
Tracey L. Thompson,
Acting Director, Office of Sustainable Fisheries, National Marine Fisheries Service.

[FR Doc. E7-1698 Filed 2-1-07; 8:45 am]

BILLING CODE 3510-22-S